ENVIRONMENTAL PROTECTION AGENCY

[FRL-7524-2]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP); and the Stratospheric Ozone Protection Program.

FOR FURTHER INFORMATION CONTACT: An electronic copy of each complete document posted on the Applicability Determination Index (ADI) database system is available on the Internet through the Office of Enforcement and Compliance Assurance (OECA) Web site at: http://www.epa.gov/compliance/assistance/applicability. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION: Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP and section 111(d) of the Clean Air Act regulations contain no specific regulatory provision that sources may request applicability determinations, EPA does respond to written inquiries regarding applicability for the part 63 and section 111(d) programs. The NSPS and NESHAP also allow sources to seek permission to use monitoring or recordkeeping which are different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with more than one thousand EPA letters and memoranda pertaining to the applicability, monitoring, recordkeeping, and reporting requirements of the NSPS and NESHAP. The letters and memoranda may be searched by date, office of issuance, subpart, citation, control number or by string word searches.

Today's notice comprises a summary of 58 such documents added to the ADI on May 2, 2003. The subject, author, recipient, date and header of each letter and memorandum are listed in this notice, as well as a brief abstract of the letter or memorandum. Complete copies of these documents may be obtained from the ADI through the OECA Web site at: http://www.epa.gov/compliance/assistance/applicability.

Summary of Headers and Abstracts

The following table identifies the database control number for each document posted on the ADI database system on May 2, 2003; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

ADI Determinations Uploaded on May 2, 2003
Control No. | Category | Subpart | Title
A030001 | Asbestos | M | Abandoned Underground Lines Wrapped in Friable Asbestos
M030001 | MACT | LL | Parametric Monitoring Plan
M030002 | MACT | S | Alternative Monitoring Parameter
M030003 | MACT | LL | Parametric Monitoring Plan
M030004 | MACT | LL | Modification of Parametric Monitoring Plan
M030005 | MACT | S | Daily Monitoring Requirement
M030006 | MACT | S | Compliance with Condensate Treatment Standard
M030007 | MACT | LL, A | Site-Specific Test Plan
M030008 | MACT | LL | Parametric Monitoring Plan
M030009 | MACT | S | Alternative Monitoring Parameter
M030010 | MACT | S | Alternative Monitoring Parameter
M030011 | MACT | RRR | Applicability of Secondary Aluminum MACT to Scalpers
M030012 | MACT | S | Alternative Monitoring of Sulfite Mill Scrubber
M030013 | MACT | SS, YY | Alternative Organic HAP and Halogen Monitoring
M030014 | MACT | S | Continuous Monitoring Using Predictive Model
M030015 | MACT | MM | Alternative Monitoring for Smelt Dissolving Tank Scrubber
M030016 | MACT | S | Continuous Monitoring with Flow Rate and COD
M030017 | MACT | S | Continuous Monitoring of Sulfite Mill Weak Acid Scrubber
M030018 | MACT | N | Wetting Agents in Trivalent Chromium Baths
Z030001 | NESHAP | E | Performance Test Waiver for Sewage Sludge Incinerators
0300001 | NSPS | Db | Boiler Derate Criteria
0300002 | NSPS | Db | Alternative Monitoring
0300003 | NSPS | J | Alternative Monitoring for Propane Fuel
0300004 | NSPS | GG | Alternative Test Methods for Gas Turbine
0300005 | NSPS | A, GG | Reduced Notification Period for Performance Testing
0300006 | NSPS | A, GG | Turbine Relocations and Impacts on Applicability
0300007 | NSPS | Cc | Total Landfill Gas Generation
0300008 | NSPS | Db | Alternate Opacity Monitoring Method
0300009 | NSPS | DDD | Applicability to Expanded Polystyrene Plant
0300010 | NSPS | Dc | Heat Exchangers as Unaffected Process Heaters
0300011 | NSPS | GG | Modifications to Test Method 20 for Turbines
0300012 | NSPS | A, GG | Custom Fuel Monitoring Schedule
0300013 | NSPS | Db, A | Extension to Perform a RATA
0300014 | NSPS | Kb, A | Flow Measurement for Flare
0300015 | NSPS | GG | Waiver for Turbine Load Testing Restriction
0300016 | NSPS | Dc, A | Startup & Shutdown Recordkeeping
0300017 | NSPS | KKK | Applicability to Crude Oil Production Facility
0300018 | NSPS | A, GG | Alternate Monitoring Method
0300019 | NSPS | A, GG | Custom Fuel Monitoring
0300020 | NSPS | Db, Dc | Steam Reforming Gasification System at Pulp and Paper Mill
0300021 | NSPS | D | Boiler Derate Proposal
0300022 | NSPS | NNN, RRR, A | Alternative Monitoring/Performance Test Waiver
0300023 | NSPS | UUU | Applicability to Expansion Furnace Preheater
0300024 | NSPS | BB | Exemption from TRS Standard for Brown Stock Washer
0300025 | NSPS | Dc | Fuel Heaters
0300026 | NSPS | BB | Monitoring for Smelt Dissolving Tank and Lime Kiln Scrubbers
0300027 | NSPS | WWW | Request to Conduct Additional Tier 2 Testing
0300028 | NSPS | WWW | Definition of “Treatment System”
0300029 | NSPS | AA, A | Clarification of Applicability Date
0300030 | NSPS | AA | Clarification of Applicability Date
0300031 | NSPS | AA | Clarification of Applicability Date
0300032 | NSPS | Db | Thermal Oxidizer/Waste Heat Boiler at Ethanol Production Facility
0300033 | NSPS | HH | Applicability of Opacity Monitoring Requirements
0300034 | NSPS | Da, GG | Alternative Monitoring
0300035 | NSPS | A, GG | Initial Performance Test Waiver
0300036 | NSPS | WWW | Common Control for Landfill
0300037 | NSPS | VVV | Applicability to Pultrusion Facilities
0300038 | NSPS | WWW | Responsibility for Compliance with Subpart

Abstracts

Abstract for [A030001]

Q1: Is there a point at which abandoned underground utility steam lines wrapped in friable asbestos which enter commercial and residential structures are no longer regulated and fall under the residential exemption of 40 CFR 61.141?

A1: No. The lines remain a facility component regulated under the asbestos NESHAP, even if they are abandoned. Determination of which specific requirements of the asbestos NESHAP would apply to future demolitions or renovations would be based, in part, on the amount of asbestos involved.

Q2: Would abandonment of such lines at a residence cause the location to be considered an active waste disposal site under 40 CFR 61.154? If no more asbestos-containing material is buried there for a year, would the location be an inactive waste disposal site per 40 CFR 61.151(e) and 40 CFR 61.154(h)?

A2: No. The residential location would not be considered an active or inactive waste disposal site. If the lines are disturbed, the asbestos NESHAP may apply depending on the type of activity and how it affects the lines.

Q3: When a utility steam line is abandoned at a residence or a commercial property, must the utility or the property owner place a notation on the deed of the property per 40 CFR 61.151(e)?

A3: No. Because the mere existence of these lines does not make the property an inactive waste disposal site, 40 CFR 61.151(e) does not apply. Should the property become an inactive waste disposal site, the property owner would need to insure that a notation was placed on the deed and any other instrument normally examined during a title search.

Q4: Would the asbestos NESHAP regulate the removal of underground utility steam lines from the yard of a residence?

A4: The asbestos NESHAP would apply if the amount of asbestos being removed exceeds the regulatory threshold. Because the lines were once part of an affected facility, they remain potentially subject despite the fact that they are abandoned by the utility and are on residential property.

Abstract for [M030001]

Q: Will EPA approve the parametric monitoring plan for the Kaiser Aluminum reduction plant?

A: Yes. EPA approves the Parametric Monitoring Plan because the source has met the requirement in 40 CFR 63.848(f).

Abstract for [M030002]

Q: Will EPA allow the monitoring of an alternate parameter, scrubber fan amperage, in lieu of measuring gas scrubber inlet gas flow rate as required in 40 CFR 63.453(c)(2)?

A: Yes. Based on EPA's guidance document entitled “Questions and Answers for the Pulp and Paper NESHAP” dated September 22, 1999, EPA approves the request as long as a successful initial performance test of the gas scrubber is conducted while the fan is operating at maximum speed. Fort James is still required to satisfy all the applicable requirements of the Pulp and Paper NESHAP.

Abstract for [M030003]

Q: Will EPA approve the Parametric Monitoring Plan (Revision 2) for Potlines 1 through 4 at the Alcoa—Wenatchee Works?

A: Yes. EPA's review of the source's report indicates that it satisfies the requirements of 40 CFR 63.847(h) and 40 CFR 63.848(f), (j) and (k).

Abstract for [M030004]

Q: May the parametric limits for alumina ore feed to the control system and air flow from the potline be reduced in proportion to the reduction in operating pots for potline #1?

A: Yes. However, an emissions test shall be conducted on the operating primary air pollution control device for potline #1 and the test report submitted to EPA.

Abstract for [M030005]

Q: Is Potlatch correct in concluding that it is not required to begin the daily monitoring under 40 CFR 63.453(j) until after the initial performance test (IPT) is conducted?

A: No. Potlatch's interpretation is not entirely correct. EPA believes that any required monitoring parameter that is not established by the results of the IPT should be monitored beginning on the compliance date. For certain conditions, the monitoring of some parameters would not be required to begin on the compliance date.

Abstract for [M030006]

Q1: Potlatch proposes to perform 3 test runs from 18 sampling locations to characterize and delineate the mixing zones in a 102-acre secondary treatment aeration pond. Is this study duration and scope acceptable for hazardous air pollutants (HAPs) compliance evaluations?

A1: EPA believes that the scope and duration of the Mixing Zone Study would depend on the design and operation of the treatment lagoon, and on the statistical validity of the results. Therefore, Potlatch should be prepared to perform more than 3 test runs as necessary.

Q2: Does the facility need approval prior to conducting the Study and performance tests?

A2: No. However, the requirements in 40 CFR 63.7(b) and (c) apply.

Q3: Do these three test runs have to be done within a 24-hour period or completed on 3 consecutive days?

A3: No. However, each test run should be completed within a 24-hour period.

Q4: Potlatch proposes to collect one grab sample per sampling location during each day of the Mixing Zone Study and performance tests. Is that acceptable?

A4: Yes. Therefore, a study period of more than 3 days may also be necessary.

Q5: May the durations of the initial performance test (IPT), quarterly performance test (QPT) and performance test (PT) for an excursion be different?

A5: Yes. EPA recommends that once the IPT is completed, the statistical variability of the data would be used to design the QPT and PT for excursion.

Q6: What duration of sampling is required for establishing site-specific parameter ranges and averaging times?

A6: In reference to 40 CFR 63.453(n)(4), it is the source's responsibility to collect sufficient data to demonstrate to the permitting agencies' satisfaction that the source is in “continuous compliance with the applicable emission standard”.

Q7: May a site-specific monitoring parameter and its range(s) be established prior to conducting the IPT or prior to the facility's compliance date if the proper sampling procedures and test methods were followed?

A7: Yes. Site-specific monitoring parameters and its ranges may be established and tested during the Mixing Zone Study.

Q8: Is it necessary to provide notification to EPA prior to conducting a mixing zone study?

A8: Yes. Because the Mixing Zone Study is part of the Initial Performance Test, 60-day notification requirements in 40 CFR 63.7 would apply.

Q9: Does a facility have to notify EPA a minimum of 60 days before a performance test?

A9: Yes. 40 CFR 63.7(b)(1) requires that an affected source notify the Administrator in writing of its intention to conduct a performance test at least 60 calendar days before the performance test is scheduled to begin. Also, 40 CFR 63.7(c)(2)(i) requires the submission of site-specific test plans upon request by the delegated authorities.

Abstract for [M030007]

Q: Will EPA approve NWAC's site-specific test plan and the modified versions of EPA's Air Sampling Methods 13B and 14A?

A: Yes. EPA approves of NWAC's request.

Abstract for [M030008]

Q: Will EPA approve the parametric monitoring plan for Alcoa Wenatchee Works?

A: Yes. EPA approves Alcoa's Parametric Monitoring Plan as having met the requirements in 40 CFR 63.847(h) and 63.848(f), (j) and (k).

Abstract for [M030009]

Q: Will EPA allow the monitoring of an alternate parameter, scrubber fan amperage, in lieu of measuring gas scrubber inlet gas flow rate as required in 40 CFR 63.453(c)(2)?

A: Yes. Based on EPA's guidance document entitled “Questions and Answers for the Pulp and Paper NESHAP” dated September 22, 1999, EPA approves the request as long as a successful initial performance test of the gas scrubber is conducted while the fan is operating at maximum speed. The source is still required to satisfy all the applicable requirements of the Pulp and Paper NESHAP.

Abstract for [M030010]

Q1: Will EPA allow the monitoring of the operational status of a scrubber fan in lieu of the monitoring of the scrubber vent gas inlet flow rate when performing its initial performance test?

A1: Yes. Based on EPA's guidance document entitled “Questions and Answers for the Pulp and Paper NESHAP” dated September 22, 1999, EPA approves the request as long as a successful initial performance test of the gas scrubber is conducted while the fan is operating at maximum speed.

Q2: Will EPA approve a 1,000 ppmv calibration standard in lieu of the 10,000 ppmv calibration standard for measuring leaks in closed-vent systems?

A2: Yes. EPA approves this request because the requested 1,000 ppmv calibration standard would provide more accurate detection of a leak.

Abstract for [M030011]

Q: Do the requirements of NESHAP Subpart RRR for Secondary Aluminum Production apply to the scalpers at Kaiser's Trentwood Works in Spokane, Washington?

A: No. Based on Kaiser's description, the scalpers do not engage in activities related to secondary aluminum production and do not fall within the definition of “aluminum scrap shredders.”

Abstract for [M030012]

Q: Will EPA approve the continuous monitoring of scrubber gas exhaust gas flow rate and air evacuation fan gas flow rate in lieu of monitoring vent gas inlet flow rate for the pulping process at the Wausau-Mosinee Brokaw, Wisconsin, magnesium-based sulfite mill?

A: Yes. EPA approves the request under the conditions that the mill continuously monitor both the total vent gas flow rate at the stack outlet and the air evacuation vent gas flow rate, and that the former not exceed 86,912 actual cubic feet per minute (ACFM) at any time. That flow rate was the maximum that occurred during the initial performance test. The mill must still monitor the pH or the oxidation/reduction potential of the scrubber effluent, and the scrubber liquid influent flow rate.

Abstract for [M030013]

Q: Will EPA approve the alternative monitoring methods to monitor phosgene concentration in lieu of monitoring total organic HAPs as required by 40 CFR 63.990(c) for caustic scrubbers (absorbers) that are used as control devices for organic HAPs? The source also proposes to monitor phosgene concentration in lieu of pH, scrubber liquid flow, and gas stream flow as required by § 63.994(c)(1) for halogen scrubbers.

A: EPA conditionally approves the request. The approvals do not conclude whether the phosgene monitors meet any applicable monitor requirements such as 40 CFR 63.998(b). The approvals are contingent on the results of two performance tests, one for total HAPs and another for hydrogen halides and halogens. Based on the test results and the phosgene monitoring data, the source must submit the rationale for the value(s) of the phosgene concentration to be used to reflect continuous compliance with the standards for total HAPs, and for halogen and halides. The source must also meet the notification requirements of § 63.999(b)(3).

Abstract for [M030014]

Q: Will EPA approve the use of an Excel-based artificial neutral network (ANN) predictive computer model for continuously monitoring methanol emissions from the UNOX closed biological treatment system at International Paper's Kaukauna mill?

A: Yes. The company has more than a year of operating data and effluent methanol concentrations. These data show that the measurement of several process parameters, such as the dissolved oxygen in the system and the oxygen uptake rate of the mixed liquor, adequately demonstrates that the ANN model provides continuous monitoring of the UNOX methanol concentration.

Abstract for [M030015]

Q: Will EPA approve the continuous monitoring of fan amperage and scrubbing liquid flow rate in lieu of scrubber pressure drop for the smelt dissolving tank scrubber at the International Paper Quinnesec, Michigan mill?

A: Yes. Pressure drop does not govern particulate removal efficiency for this dynamic scrubber that operates near atmospheric pressure, and fan amp monitoring will suitably indicate scrubber performance. EPA approves the request under the condition that the mill establish operating ranges for the monitoring parameters in the initial performance test.

Abstract for [M030016]

Q: Will EPA approve the alternative monitoring for the UNOX closed biological treatment system at the Wausau-Mosinee mill in Mosinee, Wisconsin? The mill proposes to continuously monitor the foul condensate flow rate to the UNOX system, the valve position of the feed lines to the foul condensate tank, and the treated effluent chemical oxygen demand (COD).

A: Yes. The condensate collection efficiency depends on the flow rate to the UNOX system, and COD is a good indicator of UNOX system performance.

Abstract for [M030017]

Q: Must the Weyerhaeuser calcium-based sulfite pulp mill in Rothschild, Wisconsin continuously monitor the outlet to the weak acid tower scrubber? The company claims the scrubber is not needed to comply with the methanol emission limit.

A: Yes. There is insufficient evidence that the mill is operating in continuous compliance with the emission limit. Thus, Weyerhaeuser must continuously monitor emissions or establish alternative operating parameters that continuously demonstrate compliance.

Abstract for [M030018]

Q: Does 40 CFR 63.342(e)(1) require facilities using trivalent chromium baths to use a pre-mixed bath mixture containing the wetting agent?

A: Yes, 40 CFR 63.342(e)(1) requires the trivalent chromium bath solution components to include a wetting agent. However, the wetting agent does not need to be incorporated into the bath solution by the vendor. The wetting agent must only be included as an integral part of the trivalent chromium bath components when purchasing the solution components from the vendor. The wetting agent can then be added by the source following vendor recommendations.

Abstract for [Z030001]

Q: May Cominco get an emissions test waiver for two sewage sludge incinerators located at the DeLong Mountain Regional Transportation System Port Facility in Alaska?

A: Yes. EPA waives the emissions tests required in 40 CFR 61.53(d)(1) based on Cominco's monthly testing results which show the emission level well below the standard at 40 CFR 61.52(b).

Abstract for [0300001]

Q: Is Lamb-Weston's boiler #1 subject to NSPS Subpart Db after its capacity was changed to below 100 million Btu/hour?

A: No. The boiler is no longer subject to NSPS Subpart Db.

Abstract for [0300002]

Q: Will EPA approve the Predictive Emissions Monitoring System (PEMS) for the boiler subject to NSPS Subpart Db?

A: Yes. EPA approves of the PEMS and requires the company to perform annual relative accuracy tests to verify the accuracy of the PEMS and send the test results.

Abstract for [0300003]

Q: Will EPA approve an alternative monitoring plan (AMP) with a periodic monitoring system for propane fuel used in the generators at Tesoro's Anacortes Refinery?

A: Yes. Pursuant to 40 CFR 60.105(a)(4)(ii), EPA extends the existing EPA approved-AMP dated May 29, 1996, for Boiler F-753 for application to the generators.

Abstract for [0300004]

Q1: May Cogentrix conduct performance tests only at 100% load for a combined cycle gas turbine subject to 40 CFR part 75 and NSPS Subpart GG?

A1: Yes. EPA approves this request because the certified NOX continuous emission monitoring system (CEMS) used in the initial performance test would undergo calibration checks before and after each test run, and the turbine will normally be operated at 100% load.

Q2: May Cogentrix determine sulfur content by collecting samples for analysis for total sulfur in lieu of testing for SO2 using Method 20?

A2: Yes. This proposal is acceptable to EPA because the turbine would be firing exclusively pipeline natural gas, where given the sulfur content of the fuel, it would not cause SO2 emissions in excess of the SO2 standard specified in 40 CFR 60.333.

Abstract for [0300005]

Q: May NW Natural request a reduced notification period for performance testing on two gas fired turbines?

A: Yes. This request is approved because NW Natural had previous correspondence with the Oregon Department of Environmental Quality (ODEQ) and the weather dependent operational schedule of the turbine would not allow NW Natural to meet the required 180-day deadline in 40 CFR 60.8(a) to conduct performance testing.

Abstract for [0300006]

Q1: Are turbines that were manufactured before October 3, 1977, but that did not begin operation on the Trans-Alaska Pipeline System (TAPS) pump stations until after October 3, 1977, subject to NSPS Subpart GG, no matter when they were purchased by Alyeska from the manufacturer or other owner?

A1: No. These stationary gas turbines, that are purchased in completed form, are not subject to NSPS Subpart GG provided they were not “modified” or “reconstructed” as defined in NSPS Subpart A, on or after October 3, 1977.

Q2: Do the requirements of NSPS Subparts A and GG follow a new turbine wherever it is operated on the TAPS?

A2: Yes. The requirements of NSPS Subparts A and GG follow a turbine constructed, modified or reconstructed after October 3, 1977, regardless of where the turbine is relocated to, but do not apply to the equipment that is powered by the turbine (such as a generator or a pump).

Q3: Do the Alyeska turbines that were manufactured before October 3, 1977 become subject to NSPS Subpart GG if they are relocated between TAPS pump stations as a pool of identical turbines to allow for maintenance of turbines?

A3: No. The relocation of a turbine as part of a pool of identical turbines would not make the turbine subject to NSPS Subpart GG if the turbine is not “modified” or “reconstructed,” as those terms are defined in 40 CFR Subpart A, as a result of the relocation. Certain requirements are required in the Title V permit.

Q4: Does a turbine that is not subject to NSPS Subpart GG become subject to it if it is rotated into a location to replace an existing turbine that is subject to NSPS Subpart GG?

A4: No. As discussed above, a relocation of an affected facility is not, by itself, a modification.

Abstract for [0300007]

Q: Does EPA agree with interpretation of the Lane Regional Air Pollution Authority that the total amount of landfill gases generated must be considered when making an applicability determination?

A: Yes. Specifically, pertaining to 40 CFR 60.33c(a)(3), the total nonmethane organic compound (NMOC) emission rate from the landfill must be used to determine applicability.

Abstract for [0300008]

Q: Will EPA approve an alternate opacity emissions monitoring method for an auxiliary boiler subject to NSPS Subpart Db?

A: No. The proposal to use Method 9 instead of operating a COMS is denied because the proposed method would not provide an equivalent level of monitoring. The proposal may be acceptable if certain conditions are met.

Abstract for [0300009]

Q: The Native Village of Kotzebue's proposed expanded polystyrene plant plans to purchase polystyrene-bead raw material from other manufacturers. Will the plant be subject to NSPS Subpart DDD?

A: No. With reference to 40 CFR 60.560, because the proposed plant will not manufacture polystyrene, EPA determines that NSPS Subpart DDD would not apply.

Abstract for [0300010]

Q: Does NSPS Subpart Dc cover heat exchangers used to heat vegetable oil at a Frito-Lay facility?

A: No. Because the “heat exchanger” units are used to heat vegetable oil, which is a reactant within the chemical reaction involved in the production of potato chips, EPA believes that the units are process heaters as defined in 40 CFR 60.41c and that NSPS Subpart Dc does not apply to them.

Abstract for [0300011]

Q: May Phillips Alaska use a 7 point multi-hole probe to identify the two ports with the lowest oxygen concentration in-lieu of the oxygen traverse of the stack in accordance with Reference Method 20 procedures?

A: Yes. EPA believes that the modified method could generate acceptably accurate data.

Abstract for [0300012]

Q: Will EPA approve Congentrix's request for a nitrogen monitoring waiver and an alternate sulfur monitoring schedule for a gas-fired combined cycle turbine subject to 40 CFR part 75 and NSPS Subpart GG?

A: Yes. EPA approves this request for a nitrogen monitoring waiver and an alternate sulfur monitoring schedule for the combined cycle turbine firing exclusively pipeline natural gas.

Abstract for [0300013]

Q: Will EPA grant an extension to perform a Relative Accuracy Test Audits (RATA) for the CEMS for a new boiler subject to NSPS Subpart Db?

A: No. EPA has not received a report of the performance test within 60 days of achieving maximum production rate as required in 40 CFR 60.8(a). Moreover, if the performance test conducted was a Method 7 test, this would not have been consistent with the method specified in 40 CFR 60.46b(e). Therefore, the source appears to be in violation of the requirement to timely conduct the applicable performance test. Under these circumstances, it would not be appropriate to grant the request for an extension of time to conduct a performance evaluation.

Abstract for [0300014]

Q: Will EPA approve BP's proposal of only observing readings from the existing orifice plates to verify flare exit velocities and a waiver of the flow measurement requirements at 40 CFR 60.18(f)(4)?

A: No. EPA denies the request because BP has not provided sufficient information regarding the existing orifice plates to determine compliance. EPA is concerned about possible corrosion on the orifice plates, which may result in unreliable exit velocity data.

Abstract for [0300015]

Q: Will EPA grant a waiver for turbine load testing restriction for two gas turbines subject to NSPS Subpart GG?

A: Yes. EPA grants BP's request for waiving EPA's August 2, 2000, requirement for performing additional source tests at higher than presently tested load points, because there is a strong basis from test results for predicting that NOX Concentrations from operating the turbines would be below the required NSPS standard in the event that the turbines are operated at above the highest tested load.

Abstract for [0300016]

Q: Does 40 CFR 60.7(b) mean that an owner or operator shall maintain records of the occurrence and duration of the initial startup and the eventual final shutdown?

A: No. 40 CFR 60.7(b) states that the owner or operator will maintain records of the occurrence and duration of any startup or shutdown.

Abstract for [0300017]

Q: Is NSPS Subpart KKK applicable to the facility at BP Exploration's Bedim Development Project located on the North Slope of Alaska?

A: No. NSPS Subpart KKK is applicable to Onshore Natural Gas Processing Plants, as described in 40 CFR 60.630. The subject BP Exploration plant is a crude oil production facility, and therefore does not meet the definition of a “Natural Gas Processing Plant” described in § 60.631.

Abstract for [0300018]

Q: May PGE use a CEMS to monitor nitrogen oxides emissions for the turbine subject to NSPS Subpart GG?

A: Yes. PGE may use the CEMS to monitor NOX emissions in lieu of monitoring fuel consumption, and the water-to-fuel ratio, as required by 40 CFR 60.334(a).

Abstract for [0300019]

Q: Will EPA approve an exemption of daily nitrogen testing and a custom fuel monitoring schedule for sulfur for a natural gas-fueled turbine?

A: Yes. EPA will waive nitrogen monitoring for pipeline quality natural gas, as there is no fuel-bound nitrogen, and will approve the custom fuel monitoring schedule for sulfur based on following specific conditions for confirming sulfur variability of the pipeline natural gas.

Abstract for [0300020]

Q. Is the entire black liquor steam reforming gasification system, which includes one reformer boiler and 8 pulse heaters, an affected facility under 40 CFR part 60, subpart Db?

A. EPA has determined that the reformer boiler is subject to 40 CFR part 60, subpart Db. The 8 pulse heaters are not part of the same affected facility, and are individual units that are not subject to Subpart Db because of their size. They may be affected facilities as defined by 40 CFR part 60, subpart Dc, unless they are unaffected because they meet the definition of a process heater.

Q. Will EPA approve an alternative proposal for monitoring nitrogen oxides from the reformer boiler?

A. Yes. EPA has determined that monitoring nitrogen oxide concentration at the single stack from the reformer boiler and the pulse heaters and using each unit's corresponding heat inputs, as measured by the fuel fired, is an acceptable alternative for monitoring nitrogen oxide emissions on a pound/mmBTU basis for reasons set out in the determination.

Abstract for [0300021]

Q: Will EPA allow a facility to derate a boiler to less than 250 mm Btu/hr by limiting the feed rate of coal and fuel oil?

A: No. Changes which are made only to fuel feed systems are not acceptable for derating boilers.

Abstract for [0300022]

Q: Will EPA waive the requirement for a performance test and approve alternative monitoring for boilers and process heaters which are fired with fuel gas which contains vent streams from facilities subject to NSPS Subpart NNN?

A: Yes. EPA will waive the requirement for a performance test and approve the provisions of NSPS Subpart RRR as alternative monitoring to the provisions of NSPS Subpart NNN.

Abstract for [0300023]

Q: Is a natural gas-fired preheater, which is used to improve the efficiency of a perlite expansion furnace, subject to NSPS Subpart UUU?

A: No. Based on site-specific information provided and the background document for the standard, the preheater described is not functionally equivalent to either a dryer or calciner.

Abstract for [0300024]

Q: Does a brown stock washer system qualify for an exemption from the TRS standard under 40 CFR 60.283(a)(1)(iv)?

A: Yes. Based on cost information supplied and recent cost estimates from other facilities, a temporary exemption from the TRS standard is appropriate.

Abstract for [0300025]

Q: Are natural gas-fired fuel heaters, to be used to heat natural gas prior to being routed to combustion turbines for use as fuel, subject to NSPS Subpart Dc?

A: No. The fuel heaters are not subject to subpart Dc, since there is no heat transfer medium associated with their operation.

Abstract for [0300026]

Q1: Will EPA approve the replacement of the NSPS continuous monitoring requirements with the MACT continuous monitoring requirements for the smelt dissolving tank and lime kiln scrubbers at the International Paper Quinnesec, Michigan mill?

A1. Yes. The MACT monitoring requirements meet or exceed the NSPS requirements.

Q2: Will EPA approve the continuous monitoring of fan amperage in lieu of scrubber pressure drop for the smelt dissolving tank scrubber?

A2. Yes. Pressure drop does not govern particulate removal efficiency for the smelt dissolving tank dynamic scrubber that operates near atmospheric pressure, but fan amperage monitoring will suitably indicate scrubber performance. The U.S. EPA approves the request under the condition that the mill establish operating ranges for the monitoring parameters during a performance test.

Abstract for [0300027]

Q: Can a landfill conduct additional Tier 2 testing to demonstrate that NMOC emissions are below 50 Mg/year?

A: Yes. As long as the collection and control plan has been submitted by one year from the exceedance of 50 Mg/year, the landfill may conduct further testing. If, however, NMOC emissions continue to demonstrate levels at or above 50 Mg/year, then the source will be expected to implement its collection and control system according to the original schedule (18 months after the collection and control system plan was submitted).

Abstract for [0300028]

Q: Is a system that consists of a 155 scfm, stainless steel, coalescing filter with a 0.01 micron screen, a compressor/blower, and a liquid knockout sump a treatment system?

A: No. “Treatment system” is not defined. However, although the proposed system has a liquid knockout sump, it does not use chillers or other dehydration equipment to de-water the landfill gas.

Abstract for [0300029]

Q1: The applicability date for NSPS Subpart AA occurred during the construction, in the same building but at different times, of two electric arc furnaces (EAFs). Under these circumstances, what constitutes “construction” and when does construction “commence” for each affected facility for purposes of NSPS Subpart AA applicability?

A1: There must be actual physical construction of or a binding contractual obligation for each affected facility prior to the applicability date. In this case, EPA determined that EAF #1 commenced construction before the applicability date of October 21, 1974, but that EAF #2 had commenced construction after the applicability date and was therefore subject to NSPS Subpart AA.

Q2: Are transformers which supply electricity to the EAF electrodes part of the NSPS Subpart AA affected facility?

A2: No. Although they are treated as part of the affected facility in the later NSPS Subpart AAa, according to the definition of electric arc furnace at 40 CFR 60.271, the transformer system is not part of the affected facility subject to NSPS Subpart AA. It should be noted that, although the transformer system was constructed prior to the subpart AA applicability date, the construction of EAF #2 occurred after that date and is subject to NSPS Subpart AA.

Abstract for [0300030]

Q1: The applicability date for NSPS Subpart AA occurred during the construction, in the same building but at different times, of two EAFs. Under these circumstances, what constitutes “construction” and when does construction “commence” for each affected facility for purposes of NSPS Subpart AA applicability?

A1: There must be actual physical construction of or a binding contractual obligation for each affected facility prior to the applicability date. In this case, EPA determined that EAF #1 commenced construction before the applicability date of October 21, 1974, but that EAF #2 had commenced construction after the applicability date and was therefore subject to NSPS Subpart AA.

Q2: Are transformers which supply electricity to the EAF electrodes part of the NSPS Subpart AA affected facility?

A2: No. Although they are treated as part of the affected facility in the later NSPS Subpart AAa, according to the definition of electric arc furnace at 40 CFR 60.271, the transformer system is not part of the affected facility subject to NSPS Subpart AA. It should be noted that, although the transformer system was constructed prior to the subpart AA applicability date, the construction of EAF #2 occurred after that date and is subject to NSPS Subpart AA.

Abstract for [0300031]

Q: The applicability date for NSPS Subpart AA occurred during the construction, in the same building but at different times, of two electric arc furnaces (EAFs). Under these circumstances, what constitutes “construction” and when does construction “commence” for each affected facility for purposes of NSPS Subpart AA applicability?

A: There must be actual physical construction of or a binding contractual obligation for each affected facility prior to the applicability date. In this case, EPA determined that EAF #1 commenced construction before the applicability date of October 21, 1974, but that EAF #2 had commenced construction after the applicability date and was therefore subject to NSPS Subpart AA.

Abstract for [0300032]

Q1: Is the thermal oxidizer with heat recovery boiler located at the Badger State Ethanol facility a steam generating unit and, therefore, subject to NSPS Subpart Db?

A1: Yes. The thermal oxidizer/heat recovery boiler would be considered a steam generating unit because it will combust fuel and heat a heat transfer medium; it is covered by NSPS Subpart Db.

Q2: How do Applicability Determinations NB04 and NA07 affect the applicability of the thermal oxidizer/heat recovery boiler?

A2: Applicability Determination NA07 concerns the applicability of NSPS Subpart Dc to a combined cycle system comprised of a gas turbine and a waste heat boiler. The thermal oxidizer/waste heat boiler configuration at the Badger State facility is treated differently than the gas turbine/waste heat boiler configuration in Applicability Determination NA07. Applicability Determination NB04 consists of a gas turbine followed by a duct burner which, in turn, is followed by a waste heat boiler. In this configuration the duct burner followed by the waste heat boiler meets the criteria for a device to be considered a steam generating unit. Neither Applicability Determination NA07 nor NB04 contradict this applicability determination.

Abstract for [0300033]

Q: Is a source controlling SO2 emissions from a lime kiln using a wet scrubbing system subject to the opacity monitoring requirement in 40 CFR 60.343?

A: No. When using a wet scrubber, the source is not required to monitor the opacity of the gases discharged. Instead, the source must install, calibrate, maintain, operate, and record the resultant information from the monitoring device for the continuous measurement of the pressure loss of the gas stream through the scrubber and from the monitoring device for continuous measurement of the scrubbing liquid supply pressure to the control device. The source must comply with these monitoring requirements even during periods of startup, shutdown, and malfunction.

Abstract for [0300034]

Q1: Will EPA approve an alternative monitoring requirement for NOX if the emissions from a duct burner steam generating unit commingle with the emissions from the combustion turbines?

A1: Yes. Because the compliance provision under 40 CFR 60.46a(k)(3) requires that NOX emissions be measured at the point where emissions from the duct burner combine with the emissions from the combustion turbine, EPA will approve an alternative monitoring requirement. The source should use the equation in appendix D to part 72 to calculate the actual gross electric output from the turbines, using the actual heat input instead of the maximum design heat input. The hourly emission (lb/hr) from the NOX CEM will then be divided by the gross electrical output to yield values in terms of the standard (lb/MWh).

Q2: Will EPA approve a custom fuel monitoring schedule?

A2: Yes, consistent with U.S. EPA's national guidance contained in a policy memorandum, dated August 14, 1987, EPA will allow a custom fuel monitoring schedule under the conditions set out in the letter.

Abstract for [0300035]

Q: Will EPA approve a previous waiver of an initial performance test for a gas turbine based on preliminary performance source test results for an identical gas turbine?

A: Yes. EPA approves the previous waiver. EPA accepts the preliminary performance source test results for GE LM2500 Turbine B (S/N 671-126) as documentation that it meets the standard for NOX (40 CFR 60.332(a)(2)) and has determined that the waiver applies to the identical gas turbine GE LM2500 Turbine A (SN 671-125). This approval is contingent on the test report confirming the preliminary results.

Abstract for [0300036]

Q: A landfill is selling its landfill gas to an energy generation company. Are they under “common control” for purposes of determining whether they are a single stationary source under PSD and Title V?

A: Based on the facts, EPA does not consider the landfill and the energy generating facility to be under common control for PSD and Title V (no common financial interests, employees, or dependence on one another). The state may issue two separate Title V permits. However, EPA does consider them to be responsible for compliance with 40 CFR part 60, subpart WWW.

Abstract for [0300037]

Q: Does 40 CFR part 60, subpart VVV, Standards of Performance for Polymeric Coating of Supporting Substrates apply to pultrusion facilities?

A: No, NSPS Subpart VVV does not apply to pultrusion facilities. The operating characteristics of the pultrusion process are different from the polymeric coating process that is covered by NSPS Subpart VVV. NSPS Subpart VVV applies to those polymeric coating processes where solvents are intentionally volatilized out of the coating as a necessary part of the process. In the pultrusion process, the volatile organic compound (styrene) is a reactant, not a solvent. The styrene predominantly becomes an integral part of the final product.

Abstract for [0300038]

Q: As between the owner and operator of a landfill facility and the owner and operator of equipment used to control landfill gas emissions for use in generating electricity, which entity bears the regulatory burden of complying with the requirements of NSPS Subpart WWW?

A: The owner and operator of the landfill facility is required to demonstrate compliance with all applicable provisions of NSPS Subpart WWW pursuant to 40 CFR 60.750(a). All applicable requirements should be incorporated into the facility's Title V permit. The owner and operator of the equipment utilized to control landfill gas emissions could also be held liable for complying with the regulations. However, the owner of a regulated facility cannot contract away its liability because another entity is contractually obligated to perform activities which are also regulated. [See generally, for example, United States of America v. Geppert Bros., Inc. and Amstar Corporation, 638 F. Supp. 996 (D.C. Pa. 1986)].

Dated: June 30, 2003.
Lisa Lund,
Acting Director, Office of Compliance.

[FR Doc. 03-17209 Filed 7-7-03; 8:45 am]

BILLING CODE 6560-50-P